DEPARTMENT OF ENERGY

Federal Energy Regulatory Commission

Supplemental Notice Announcing Revised Treatment of Initial Electric Market-Based Rate Authorization Filings That Also Request Blanket Section 204 Authorization

May 8, 2008.

On April 3, 2008, the Commission issued a notice stating that, effective April 3, 2008, it would issue a separate combined notice of filing for initial electric market-based rate authorization filings.

Upon further consideration, and effective upon the date of issuance of this supplemental notice, the Commission instead will include initial electric market-based rate authorization filings along with other filings in a combined notice of filing. However, once it is determined that an initial electric market-based rate authorization filing includes a request for blanket authorization, pursuant 18 CFR Part 34, of future issuances of securities and assumptions of liability, it will issue a separate supplemental notice.

By this initiative, the Commission seeks to expedite the process for noticing initial electric market-based rate authorization filings, while also providing notice of requests for blanket authorizations for future issuances of securities and assumptions of liabilities.

Kimberly D. Bose,
Secretary.

[FR Doc. E8-10964 Filed 5-15-08; 8:45 am]

BILLING CODE 6717-01-P